FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011812.

Title: Contship/CMA CGM-Safmarine Space Charter Agreement.

Parties: Contship Containerlines, CMA CGM, S.A., Safmarine Containerlines N.V.

Synopsis: The proposed agreement authorizes Contship and CMA CGM to charter space to Safmarine on the service they operate between the Indian Subcontinent/Middle East and the U.S. East Coast. The parties request expedited review.

By Order of the Federal Maritime Commission.
Dated: July 30, 2002.
Bryant L. VanBrakle,
Secretary.

[FR Doc. 02-19615 Filed 8-2-02; 8:45 am]

BILLING CODE 6730-01-P